DEPARTMENT OF TRANSPORTATION

Pipeline and Hazardous Materials Safety Administration

[Docket No: PHMSA-2015-0009]

Pipeline Safety: Information Collection Activities, Renewal of Annual Report for Hazardous Liquid Pipeline Systems

AGENCY: Pipeline and Hazardous Materials Safety Administration (PHMSA), DOT.

ACTION: Notice and request for comments.

SUMMARY: On February 19, 2015, in accordance with the Paperwork Reduction Act of 1995, the Pipeline and Hazardous Materials Safety Administration (PHMSA) published a notice in the Federal Register (80 FR 8944) inviting comments on an information collection titled: “Renewal of Annual Report for Hazardous Liquid Pipeline Systems” identified by Office of Management and Budget (OMB) control number 2137-0614. This information collection is expiring on December 31, 2015. In conjunction with this collection, PHMSA is requesting a 3-year renewal of form PHMSA F 7000-1.1—Annual Report for Hazardous Liquid Pipeline Systems, which is currently collected under OMB Control number 2137-0614.

During the 60-day comment period, PHMSA received no comments in response to this collection. PHMSA is publishing this notice to provide the public with an additional 30 days to comment on the renewal of this information collection and announce that the information collection will be submitted to OMB for approval.

DATES: Interested persons are invited to submit comments on or before June 29, 2015 to be assured of consideration.

ADDRESSES: You may submit comments identified by the docket number PHMSA-2015-0009 by any of the following methods:

• Fax: 1-202-395-5806.

• Mail: Office of Information and Regulatory Affairs, Records Management Center, Room 10102 NEOB, 725 17th Street NW., Washington, DC 20503, ATTN: Desk Officer for the U.S. Department of Transportation/PHMSA.

• Email: Office of Information and Regulatory Affairs, Office of Management and Budget, at the following email address: OIRA_Submission@omb.eop.gov.

Requests for a copy of the Information Collection should be directed to Cameron Satterthwaite by telephone at 202-366-1319, by fax at 202-366-4566, by email at cameron.satterthwaite@dot.gov, or by mail at U.S. Department of Transportation, PHMSA, 1200 New Jersey Avenue SE., PHP-30, Washington, DC 20590-0001.

FOR FURTHER INFORMATION CONTACT: Angela Dow by telephone at 202-366-1246, by fax at 202-366-4566, or by mail at DOT, PHMSA, 1200 New Jersey Avenue SE., PHP-30, Washington, DC 20590-0001.

SUPPLEMENTARY INFORMATION: The following information is provided for this information collection: (1) Abstract for the affected annual report form; (2) title of the information collection; (3) OMB control number; (4) affected annual report form; (5) description of affected public; (6) estimate of total annual reporting and recordkeeping burden; and (7) frequency of collection. PHMSA will request a 3-year term of approval for this information collection activity.

PHMSA requests comments on the following information collection:

Title: Reporting Requirements for Hazardous Liquid Pipeline Operators: Hazardous Liquid Annual Report.

OMB Control Number: 2137-0614.

Current Expiration Date: 12/31/2015.

Type of Request: Renewal without change.

Abstract: Each operator must annually complete and submit the Form PHMSA F 7000-1.1 for each type of hazardous liquid pipeline facility operated at the end of the previous year, as required by 49 CFR 195.49. This Annual Report for Hazardous Liquid Pipeline Systems is required to be filed by June 15 of each year for the preceding calendar year. On the Annual Report form, PHMSA collects data concerning the number of miles of pipeline each operator has and other characteristics of each pipeline system. PHMSA also collects information on the number of anomalies identified and repaired using various types of pipe inspection and assessment methods.

Affected Public: Hazardous liquid pipeline operators.

Annual Reporting and Recordkeeping Burden:

Total Annual Responses: 447.

Total Annual Burden Hours: 8,457.

Frequency of collection: Annually.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on May 22, 2015, under authority delegated at 49 CFR 1.97.
Alan K. Mayberry,
Deputy Associate Administrator for Policy and Programs.

[FR Doc. 2015-12925 Filed 5-27-15; 8:45 am]

BILLING CODE 4910-60-P